DEPARTMENT OF VETERANS AFFAIRS

Research and Development Cooperative Studies Evaluation Committee; Notice of Meeting

The Department of Veterans Affairs gives notice under Public Law 92-463 (Federal Advisory Committee Act) as amended, by section 5(C) of Public Law 94-409, that a meeting of the Research and Development Cooperative Studies Evaluation Committee will be held at The Madison Hotel, 15th & M Street NW, Washington, DC 20005, October 11-12, 2000. This session is scheduled to begin at 7:30 a.m. and end at 5 p.m. The meeting will be for the purpose of reviewing the following three new proposals: A Randomized Clinical Trial of Cognitive-Behavioral Treatment for PTSD in Women Veterans, Heart Failure in Patients with Preserved Systolic Function, and Tri-National Study—Optimal Management of Patients with HIV Infection of Whom 1st and 2nd Line Highly Active Anti-Retroviral Therapy Has Failed (OPTIMA).

The Committee advises the Chief Research and Development Officer through the Director of the Cooperative Studies Program on the relevance and feasibility of the studies, the adequacy of the protocols, and the scientific validity and propriety of technical details, including protection of human subjects.

The meeting will be open to the public from 7:30 a.m. to 8 a.m. to discuss the general status of the program. Those who plan to attend should contact Ms. Carla DeSpain, Coordinator, Department of Veterans Affairs, Washington, DC, at (202) 273-8274.

The meeting will be closed from 8 a.m. to 5 p.m. This portion of the meeting involves consideration of specific proposals in accordance with provisions set forth in 10(d) of Public Law 92.463, as amended by sections 5(C) of Public Law 94-409, and 5 U.S.C. 552b(C)(6). During the closed session of the meeting, discussions and recommendations will deal with qualifications of personnel conducting the studies, staff and consultant critiques of research proposals, and similar documents, and the medical records of patients who are study subjects, the disclosures of which would constitute a clearly unwarranted invasion of personal privacy.

Dated: September 28, 2000.
By Direction of the Acting Secretary.
Marvin R. Eason,
Committee Management Officer.

[FR Doc. 00-25489 Filed 10-3-00; 8:45 am]

BILLING CODE 8320-01-M